DEPARTMENT OF LABOR

Bureau of Labor Statistics

Proposed Collection; Comment Request

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirements on respondents can be properly assessed. The Bureau of Labor Statistics (BLS) is soliciting comments concerning the proposed reinstatement of the “National Longitudinal Survey of Youth 1979.” A copy of the proposed information collection request (ICR) can be obtained by contacting the individual listed in the ADDRESSES section of this notice.

DATES: Written comments must be submitted to the office listed in the ADDRESSES section below on or before May 19, 2003.

ADDRESSES: Send comments to Amy A. Hobby, BLS Clearance Officer, Division of Management Systems, Bureau of Labor Statistics, Room 4080, 2 Massachusetts Avenue, NE., Washington, DC 20212, telephone number 202-691-7628 (this is not a toll free number).

FOR FURTHER INFORMATION CONTACT: Amy A. Hobby, BLS Clearance Officer, telephone number 202-691-7628. (See ADDRESSES section).

SUPPLEMENTARY INFORMATION:

I. Background

The National Longitudinal Survey of Youth 1979 (NLSY79) is a representative national sample of persons who were born in the years 1957 to 1964 and lived in the U.S. in 1978. These respondents were ages 14-22 when the first round of interviews began in 1979; they will be ages 39 to 47 when the planned 21st round of interviews is conducted from January to November 2004. The NLSY79 was conducted annually from 1979 to 1994 and has been conducted biennially since 1994. The longitudinal focus of this survey requires information to be collected from the same individuals over many years in order to trace their education, training, work experience, fertility, income, and program participation.

In addition to the main NLSY79, the biological children of female NLSY79 respondents have been surveyed since 1986, when the National Institute of Child Health and Human Development began providing funding to the Bureau of Labor Statistics (BLS) to gather a large amount of information about the lives of these children. A battery of child cognitive, socio-emotional, and physiological assessments has been administered biennially since 1986 to NLSY79 mothers and their children. Starting in 1994, children who had reached age 15 by December 31 of the survey year (the Young Adults) were interviewed about their work experiences, training, schooling, health, fertility, and self-esteem, as well as sensitive topics addressed in a supplemental, self-administered questionnaire.

The BLS contracts with the Center for Human Resource Research (CHRR) of the Ohio State University to implement the NLSY79, Child, and Young Adult surveys. Interviewing of respondents is conducted by the National Opinion Research Center (NORC) of the University of Chicago. Among the objectives of the Department of Labor (DOL) are to promote the development of the U.S. labor force and the efficiency of the U.S. labor market. The BLS contributes to these objectives by gathering information about the labor force and labor market and disseminating it to policy makers and the public so that participants in those markets can make more informed and, thus, more efficient, choices. Research based on the NLSY79 contributes to the formation of national policy in the areas of education, training, employment programs, and school-to-work transitions. In addition to the reports that the BLS produces based on data from the NLSY79, members of the academic community publish articles and reports based on NLSY79 data for the DOL and other funding agencies. The survey design provides data gathered from the same respondents over time to form the only data set that contains this type of intergenerational information for these important population groups. Without the collection of these data, an accurate longitudinal data set could not be provided to researchers and policy makers, and the DOL would not have the data for use in performing its policy and report-making activities.

II. Desired Focus of Comments

The Bureau of Labor Statistics is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

The Bureau of Labor Statistics seeks approval to conduct the round 21 interviews of the NLSY79 and the associated surveys of biological children of female NLSY79 respondents. The main NLSY79 interview has an average response time of approximately 60 minutes per respondent. The time estimate for the NLSY79 Child Survey involves three components:

• The Mother Supplement is administered to female NLSY79 respondents who live with biological children under age 15. This questionnaire will be administered to about 2,000 women, who will be asked a series of questions about each child under age 15. On average, these women each have about 1.5 children under age 15, for a total number of approximately 3,000 children.

• The Child Supplement involves aptitude testing of about 2,700 children under age 15.

• The Child Self-Administered Questionnaire is administered to approximately 1500 children ages 10 to 14.

In addition to the main NLSY79 and Child Survey, the Young Adult Survey will be administered to approximately 2,800 youths ages 15 to 20 who are the biological children of female NLSY79 respondents. These youths will be contacted for an interview regardless of whether they reside with their mothers.

During the field period, about 200 main NLSY79 interviews are validated to ascertain whether the interview took place as the interviewer reported and whether the interview was done in a polite and professional manner.

Type of Review: Reinstatement, with change, of a previously approved collection for which approval has expired.

Agency: Bureau of Labor Statistics.

Title: National Longitudinal Survey of Youth 1979.

OMB Number: 1220-0109.

Affected Public: Individuals or households.

Form | Total respondents | Frequency | Total responses | Average time per response | Estimated total burden
NLSY79 Round 21 Pretest | 30 | Biennially | 30 | 60 minutes | 30 hours
Main NLSY79 Survey | 8,000 | Biennially | 8,000 | 60 minutes | 8,000 hours
Main NLSY79 Validation Reinterview | 200 | Biennially | 200 | 6 minutes | 20 hours
Mother Supplement | 2,000 | Biennially | 3,000 | 21 minutes | 1,050 hours
Child Supplement | 2,700 | Biennially | 2,700 | 31 minutes | 1,395 hours
Child Self-Administered Questionnaire | 1,500 | Biennially | 1,500 | 30 minutes | 750 hours
Young Adult Survey | 2,800 | Biennially | 2,800 | 45 minutes | 2,100 hours
Totals |  |  | 18,230 |  | 13,345 hours
Note: The number of respondents for the Mother Supplement (2,000) is less than the number of responses (3,000) because mothers are asked to provide separate responses for each of the biological children with whom they reside.

Total Burden Cost (capital/startup): $0.

Total Burden Cost (operating/maintenance): $0.

Comments submitted in response to this notice will be summarized and/or included in the request for Office of Management and Budget approval of the information collection request; they also will become a matter of public record.

Signed in Washington, DC, this 7th day of March, 2003.
Jesus Salinas,
Acting Chief, Division of Management Systems, Bureau of Labor Statistics.

[FR Doc. 03-6401 Filed 3-17-03; 8:45 am]

BILLING CODE 4510-24-P